DEPARTMENT OF COMMERCE

Bureau of the Census

[Docket Number 070104002-7796-02]

Census Designated Place (CDP) Program for the 2010 Census—Final Criteria

AGENCY: Bureau of the Census, Commerce.

ACTION: Notice of final criteria and program implementation.

SUMMARY: This Notice announces the Bureau of the Census' (Census Bureau's) final criteria for defining census designated places (CDPs) for the 2010 Census. CDPs¹ are statistical geographic entities representing closely settled, unincorporated communities that are locally recognized and identified by name. They are the statistical equivalents of incorporated places, with the primary differences being the lack of both a legally-defined boundary and an active, functioning governmental structure, chartered by the state and administered by elected officials. CDPs defined for the 2010 Census also will be used to tabulate American Community Survey, Puerto Rico Community Survey, Economic Census data after 2010, and potentially data from other Census Bureau censuses and surveys.

¹ The term CDP includes comunidades and zonas urbanas in Puerto Rico.

In addition to providing final criteria for CDPs, this Notice also contains a summary of comments received in response to proposed criteria published in the April 6, 2007, Federal Register (72 FR 17326), as well as the Census Bureau's response to those comments.

DATES: This notice's final criteria will be effective on February 13, 2008.

FOR FURTHER INFORMATION CONTACT: The Geographic Standards and Criteria Branch, Geography Division, U.S. Census Bureau, via e-mail at geo.psap.list@census.gov or telephone at 301-763-3056.

SUPPLEMENTARY INFORMATION:

I. Background

The CDP concept and delineation criteria have evolved over the past five decades in response to data user needs for place-level data. This evolution has taken into account differences in the way in which places were perceived, and the propensity for places to incorporate in various states. The result, over time, has been an increase in the number and types of unincorporated communities identified as CDPs, as well as increasing consistency in the relationship between the CDP concept and the kinds of places encompassed by the incorporated place category, or a compromise between localized perceptions of place and a concept that would be familiar to data users throughout the United States, Puerto Rico, and the Island Areas.

Although not as numerous as incorporated places or municipalities,² CDPs have been important geographic entities since their introduction for the 1950 Census. (CDPs were referred to as “unincorporated places” from 1950 through the 1970 decennial censuses.) For the 1950 Census, CDPs were defined only outside urbanized areas and were required to have at least 1,000 residents. For the 1960 Census, CDPs could also be identified inside urbanized areas outside of New England, but these were required to have at least 10,000 residents. The Census Bureau modified the population threshold within urbanized areas to 5,000 in 1970, allowed for CDPs in urbanized areas in New England in 1980, and lowered the urbanized area threshold again to 2,500 in 1990. In time, other population thresholds were adopted for identification of CDPs in Alaska, as well as in Puerto Rico, the Island Areas, and on American Indian reservations. The Census Bureau eliminated all population threshold requirements for Census 2000, achieving consistency between CDPs and incorporated places, for which the Census Bureau historically has published data without regard to population size.

² Known by various terms throughout the United States: cities, towns (except in the six New England States, New York, and Wisconsin), villages, and boroughs (except in New York and Alaska).

According to Census 2000, more than 35 million people in the United States,³ Puerto Rico, and the Island Areas ⁴ lived in CDPs. The relative importance of CDPs varies from state-to-state depending on laws governing municipal incorporation and annexation, but also depending on local preferences and attitudes regarding the identification of places.

³ For Census Bureau purposes, the United States includes the fifty states and the District of Columbia.

⁴ For Census Bureau purposes, the Island Areas includes the U.S. Virgin Islands, American Samoa, the Commonwealth of the Northern Mariana Islands, and Guam. There are no CDPs in American Samoa because villages cover its entire territory and population.

II. Summary of Comments Received in Response to Proposed Criteria

The April 6, 2007, Federal Register (72 FR 17326) notice requested comment on proposed criteria for CDPs. Specific proposed changes to the Census 2000 included:

• Requiring each CDP to contain, at a minimum, some population or housing;

• Eliminating the ability to delineate CDPs that were coextensive with governmental minor civil divisions (MCDs) in the six New England States, Michigan, Minnesota, New Jersey, New York, Pennsylvania, and Wisconsin;

• Eliminating the use of hyphenated names for CDPs, except in situations in which two or more communities have grown together and share a common identity.

The Census Bureau received ten comments related to CDPs. Two commenters expressed general support for the proposed criteria. Two commenters (both from townships in New Jersey) opposed elimination of CDPs. It was unclear from their comments whether they mistook the Census Bureau's question regarding continued identification of census county divisions as applying to CDPs, or whether their comments were offered in response to a separate inquiry from a township in New Jersey to treat townships as places within the Census Bureau's geographic area hierarchy. Treatment of townships as places would result in the elimination of small CDPs defined to represent closely settled communities within townships. Due to the lack of information, the Census Bureau did not make any changes to the criteria.

The Nevada State Demographers' office commented on the characterization of CDPs as unincorporated communities lacking legally described boundaries, noting that many CDPs in Nevada are designated as “special taxation areas” and as such have legally described boundaries.⁵ Nevertheless, the Census Bureau notes that Nevada's CDPs are not incorporated as municipalities in the same sense as cities in that state, and therefore it is still appropriate to identify Nevada's special taxation areas as CDPs. The Census Bureau will attempt to provide greater detail in its documentation and geographic attributes describing the various kinds of communities identified as CDPs.

⁵ CDPs in Hawaii and zonas urbanas in Puerto Rico also have legally described boundaries.

The Census Bureau received two comments related specifically to the proposal to reduce the number of instances in which places were combined to form a single CDP and related use of hyphenated names. Both commenters were from California, and each noted the negative impact this proposed criterion might have on the accurate depiction of unincorporated communities in California. Both agreed with the criterion in principle, but requested that the Census Bureau clarify when it is acceptable for multiple communities to be defined as a single CDP (for instance, when two communities have grown together to the extent that it is difficult to discern where one ends and the other begins) and when it is not. The example of Arden-Arcade, California, was cited, noting that the identities of these once separate places have become so intertwined that it is more common to hear them referred to together, rather than apart. The Census Bureau agrees with this comment and will clarify in both published criteria and program guidelines when it is acceptable for multiple communities to be defined as a single CDP. Multiple communities may only be combined to form a single CDP when the identities of these communities have become so intertwined that the communities are commonly perceived and referenced as a single place, or when there is no distinguishable or suitable feature in the landscape that can be used as a boundary between the communities.

The Census Bureau received three comments related to the proposal to no longer allow CDPs in Connecticut, Maine, Massachusetts, Michigan, Minnesota, New Hampshire, New Jersey, New York, Pennsylvania, Rhode Island, Vermont, and Wisconsin to be defined as coextensive with governmentally active MCDs. Each of the three commenters had extensive experience working with and analyzing statistical data for places, MCDs, and other census geographic areas. One of the commenters supported the proposal. Two of the commenters did not support the proposal, noting that CDPs that are coextensive with governmentally active MCDs represent a relatively small proportion of all CDPs and MCDs; therefore, the creation of coextensive, “whole-town” CDPs does not represent a substantial problem. Both commenters noted that since “place” is in general a rather nuanced concept, with different meanings to different people, the Census Bureau should not be overly restrictive in how it applies its CDP concept in areas of the United States, such as the Northeast and Midwest in which residents commonly perceive MCDs to be places in the same sense that residents of other parts of the country use the term “place.” They concluded that if the goal of the proposal was to eliminate redundancy in place-based data tables for these 12 states, then that goal could be accomplished within the data tabulation program without requiring modifications to geographic area criteria. The Census Bureau agrees that the elimination of redundant data should be accomplished through changes in the way in which place-level data tables are prepared rather than through changes to the CDP criteria. Therefore, the Census Bureau will review the way in which it presents data for places and MCDs in the states listed above, and seek to eliminate redundancy in place-level data tables through changes in data tabulation policy and procedures.

Changes to the Criteria From the Proposed Rule

The changes made to the final criteria (from the proposed criteria) in “Section II, Census Designated Place Criteria and Characteristics for the 2010 Census,” are as follows:

1. Section II, “Census Designated Place Criteria and Characteristics for the 2010 Census,” in the introductory paragraph to this section, removed the reference to American Indian reservations and off-reservation trust lands in the first sentence because these areas are, by definition, within the United States.

2. Section II, “Census Designated Place Criteria and Characteristics for the 2010 Census,” added a second paragraph to subsection 1, in response to comments received to clarify the circumstances under which it would be appropriate to combine multiple places to form a single CDP with a hyphenated name. This paragraph provides specific examples of CDPs that encompass multiple communities and are appropriately identified with a hyphenated name. We also have provided several questions for program participants to consider when determining whether to combine multiple communities as a single CDP and how to identify the CDP by name.

3. Section II, “Census Designated Place Criteria and Characteristics for the 2010 Census,” subsection 4. The Census Bureau deleted the criterion in subsection 4 of the proposed criteria, stating that a CDP may not be coextensive with governmentally functioning MCDs in the 12 “strong-MCD” states: Connecticut, Maine, Massachusetts, Michigan, Minnesota, New Hampshire, New Jersey, New York, Pennsylvania, Rhode Island, Vermont, and Wisconsin. The goal of this proposal was to eliminate redundancy in selected place-level data tables for these states, in which data appear for both the MCD and the coextensive CDP of the same name (for example, Framingham, Massachusetts MCD and Framingham CDP). While this practice occasionally creates confusion on the part of some data users, the number of CDPs that are coextensive with governmentally active MCDs represents a relatively small proportion of all CDPs and MCDs in these states. Further, the concept of “place” is nuanced and varies to some extent from one part of the country to another, and there are instances in which residents of an MCD identify it as a place, in the same sense as places are recognized throughout the country. Rather than adopt a restrictive criterion applicable to only a subset of states, we agreed with the commenters and concluded that the elimination of redundant data could be accomplished through changes in the way in which place-level data tables are prepared rather than through changes to the CDP criteria.

III. Census Designated Place Criteria and Characteristics for the 2010 Census

The criteria contained herein apply to the United States, Puerto Rico, and the Island Areas. In accordance with the final criteria, the Census Bureau may modify and, if necessary, reject any proposals for CDPs that do not meet the established criteria. In addition, the Census Bureau reserves the right to modify the boundaries and attributes of CDPs as needed to maintain geographic relationships before the final tabulation geography is set for the 2010 Census.

The Census Bureau will use the following criteria and characteristics to identify the areas that will qualify for designation as CDPs for use in tabulating data from the 2010 Census, the American Community Survey, the Puerto Rico Community Survey, the Economic Census, and potentially other Census Bureau censuses and surveys.

1. A CDP constitutes a single, closely settled center of population that is named. To the extent possible, individual unincorporated communities should be identified as separate CDPs. Similarly, a single community should be defined as a single CDP rather than multiple CDPs with each part referencing the community name and a directional term (i.e., north, south, east, or west). Since a CDP is defined to provide data for a single named locality, the Census Bureau does not encourage CDPs that comprise a combination of places or identified by hyphenated names. For example, CDPs such as Poplar-Cotton Center and Downieville-Lawson-Dumont are no longer acceptable. Communities were often combined as a single CDP in order to comply with the Census Bureau's minimum population requirements. The Census Bureau's elimination of population threshold criteria has made such combinations unnecessary. Other communities were combined because visible features were not available for use as boundaries for separate CDPs. The Census Bureau's new policy to allow the use of some nonvisible boundaries so that participants can separate individual communities has dispensed with the need to have multi-place CDPs.

Multiple communities may only be combined to form a single CDP when the identities of these communities have become so intertwined that the communities are commonly perceived and referenced as a single place. For example, the communities of Arden and Arcade in California have grown together over time and residents commonly use the place name Arden-Arcade. Further, because of the intertwined identity, residents would have difficulty identifying a boundary between the separate, historical communities of Arden and Arcade. Multiple communities also may be defined as a single CDP when there is no distinguishable or suitable feature in the landscape that can be used as a boundary between the communities, even if the two communities still have separate identities. For example, the CDP of Ashton-Sandy Spring in Maryland encompasses two communities that still maintain separate identities in common, daily usage. The two communities, however, have grown together to such an extent that a clear break between the two communities is no longer identifiable in the landscape. In general, when considering whether to combine multiple communities as a single CDP, the following questions should be taken into account: Do residents commonly perceive and refer to the communities as a single entity? Are there landscape elements, such as signs, that use a hyphenated name for the community? Can residents or other knowledgeable individuals identify clear, commonly accepted boundaries for the individual communities?

2. A CDP generally consists of a contiguous cluster of census blocks comprising a single piece of territory and containing a mix of residential and commercial uses similar to that of an incorporated place of similar size. Some CDPs, however, may be predominantly residential; such places should represent recognizably distinct, locally known communities, but not typical suburban subdivisions. Examples of such predominantly residential communities that can be recognized as CDPs are colonias found along the United States-Mexico border, small rural communities, and unincorporated resort and retirement communities.

3. A CDP may not be located, either partially or entirely, within an incorporated place or another CDP.

4. A CDP may be located in more than one county but must not cross state boundaries. It is important to note, however, that since county boundaries provide important demarcations for communities, CDPs that cross county lines should be kept to a minimum and identified only when the community clearly sees itself existing on both sides of a county boundary.

5. There are no minimum population or housing unit thresholds for defining CDPs; however, a CDP must contain some population or housing units or both. The Census Bureau recognizes that some communities, such as a resort or other kinds of seasonal communities, may lack population at certain times of the year. Nevertheless, there should be some evidence, generally in the form of houses, barracks, dormitories, commercial buildings and/or other structures, providing the basis for local perception of the place's existence. For the 2010 Census, the Census Bureau will not accept a CDP delineated with zero population and zero housing units. The Census Bureau will review the number of housing units within the place, as reported in the previous decennial census, and consider whether additional information is needed before recognizing the CDP. Participants submitting boundaries for places with less than ten housing units may be asked to provide additional information attesting to the existence of the CDP.

6. CDP boundaries should follow visible features, except in those circumstances when a CDP's boundary is coincident with the nonvisible boundary of a state, county, MCD (in the six New England states, Michigan, Minnesota, New Jersey, New York, Pennsylvania, and Wisconsin), or incorporated place. CDP boundaries may follow other nonvisible features in instances where reliance upon visible features will result in overbounding of the CDP in order to include housing units on both sides of a road or street feature. Such boundaries might include parcel boundaries and public land survey system lines; fence lines; national, state, or local park boundaries; ridgelines; or drainage ditches.

7. The CDP name should be one that is recognized and used in daily communication by the residents of the community. Because unincorporated communities generally lack legally defined boundaries, a commonly used community name and the geographic extent of its use by local residents is often the best identifier of the extent of a place, the assumption being that if residents associate with a particular name and use it to identify the place in which they live, then the CDP's boundaries can be mapped based on the use of the name. There should be features in the landscape that use the name, such that a non-resident would have a general sense of the location or extent of the community; for example, signs indicating when one is entering the community; highway exit signs that use the name; or businesses, schools, or other buildings that make use of the name. It should not be a name developed solely for planning or other purposes (including simply to obtain data from the Census Bureau) that is not in regular daily use by the local residents and business establishments.

8. A CDP may not have the same name as an adjacent or nearby incorporated place. If the community does not have a name that distinguishes it from other nearby communities, then the community is not a distinct place. The use of directional terms (“north,” “south,” “east,” “west,” and so forth) to differentiate the name of a CDP from a nearby municipality where this name is not in local use is not acceptable. For example, the name “North Laurel” would be permitted if this name were in local use. The name “Laurel North” would not be permitted if it were not in local use. Again, this has much to do with the way in which people typically refer to the places in which they live. It is permissible to change the name of a 2000 CDP for the 2010 Census if the new name provides a better identification of the community.

IV. Definitions of Key Terms

Alaska Native regional corporation (ANRC)—A corporate geographic area established under the Alaska Native Claims Settlement Act (Public Law 92-203) to conduct both the business and nonprofit affairs of Alaska Natives. Twelve ANRCs cover the state of Alaska, except for the Annette Island Reserve.

American Indian reservation (AIR)—A federally recognized American Indian land area with boundaries established by final treaty, statute, executive order, and/or court order, and over which a federally recognized American Indian tribal government has governmental authority. Along with reservations, designations such as colonies, communities, pueblos, rancherias, and reserves apply to AIRs.

Census block—A geographic area bounded by visible and/or invisible features shown on a map prepared by the Census Bureau. A block is the smallest geographic entity for which the Census Bureau tabulates decennial census data.

Coextensive—Descriptive of two or more geographic entities that cover exactly the same area, with all boundaries shared.

Comunidad—A census designated place in Puerto Rico that is not related to a municipio's seat of government, called an aldea or a ciudad prior to the 1990 Census.

Contiguous—Descriptive of geographic areas that are adjacent to one another, sharing either a common boundary or point of contact.

Housing unit—A house, an apartment, a mobile home or trailer, or a group of rooms or a single room occupied as a separate living quarter or, if vacant, intended for occupancy as a separate living quarter. Separate living quarters are those in which the occupants live and eat separately from any other residents of the building and which have direct access from outside the building or through a common hall.

Incorporated place—A type of governmental unit established to provide governmental services for a concentration of people within legally prescribed boundaries, incorporated under state law as a city, town (except in New England, New York, and Wisconsin), borough (except in Alaska and New York), village, or other description.

Island areas—An entity, other than a state or the District of Columbia, under the jurisdiction of the United States. For the 2010 Census, these will include American Samoa, Guam, the Commonwealth of the Northern Mariana Islands, the U.S. Virgin Islands, and several small islands in the Caribbean Sea and the Pacific Ocean. The Census Bureau treats each Island Territory as the statistical equivalent of a state.

Minor civil division—The primary governmental or administrative division of a county in 28 states, Puerto Rico, and the Island Areas having legal boundaries, names, and descriptions. MCDs represent many different types of legal entities with a wide variety of characteristics, powers, and functions depending on the state and type of MCD. In some states, some or all of the incorporated places also constitute MCDs.

Municipio—A type of governmental unit that is the primary legal subdivision of Puerto Rico. The Census Bureau treats the municipio as the statistical equivalent of a county.

Nonvisible feature—A map feature that is not visible, such as a city or county boundary, a property line running through space, a short imaginary extension of a street or road, or a point-to-point line.

Statistical geographic entity—A geographic entity that is specially defined and delineated, such as block group, CDP, or census tract, so that the Census Bureau may tabulate data for it. Designation as a statistical entity neither conveys nor confers legal ownership, entitlement, or jurisdictional authority.

Urbanized area (UA)—An area consisting of a central place(s) and adjacent urban fringe that together have a minimum residential population of at least 50,000 people and generally an overall population density of at least 1,000 people per square mile. The Census Bureau uses published criteria to determine the qualification and boundaries of UAs at the time of each decennial census or from the results of a special census during the intercensal period.

Visible feature—A map feature that can be seen on the ground, such as a road, railroad track, major above-ground transmission line or pipeline, stream, shoreline, fence, sharply defined mountain ridge, or cliff. A nonstandard visible feature is a feature that may not be clearly defined on the ground (such as a ridge), may be seasonal (such as an intermittent stream), or may be relatively impermanent (such as a fence). The Census Bureau generally requests verification that nonstandard features pose no problem in their location during field work.

Zona urbana—In Puerto Rico, the settled area functioning as the seat of government for a municipio. A zona urbana cannot cross a municipio boundary.

Executive Order 12866

This notice has been determined to be not significant under Executive Order 12866.

Paperwork Reduction Act

This program notice does not represent a collection of information subject to the requirements of the Paperwork Reduction Act, 44 U.S.C., Chapter 35.

Dated: February 8, 2008.
Steve H. Murdock,
Director, Bureau of the Census.

[FR Doc. E8-2667 Filed 2-12-08; 8:45 am]

BILLING CODE 3510-07-P